DEPARTMENT OF HEALTH AND HUMAN SERVICES

Office of the Secretary

Findings of Misconduct in Science

AGENCY: Office of the Secretary, HHS.

ACTION: Notice.

SUMMARY: Notice is hereby given that the Office of Research Integrity (ORI) has taken final action in the following case:

Bengu Sezen, Ph.D., Columbia University: Based on the findings of an investigation by Columbia University (CU) and additional analysis conducted by the Office of Research Integrity (ORI) during its oversight review, ORI found that Bengu Sezen, former graduate student, Department of Chemistry, CU, engaged in misconduct in science in research funded by National Institute of General Medical Sciences (NIGMS), National Institutes of Health (NIH), grant R01 GM60326.

Specifically, ORI made twenty-one (21) findings of scientific misconduct against Dr. Sezen based on evidence that she knowingly and intentionally falsified and fabricated, and in one instance plagiarized, data reported in three (3) papers ¹ and her doctoral thesis.

¹ Sezen, B., Franz, R., & Sames, D. “C-C bond formation via C-H bond activations: Catalytic arylation and alkenation of alkane segments.” J. Am. Chem. Soc. 124:13372-13373, 2002. Retracted in J. Am. Chem. Soc. 128:8364, 2006.

Sezen, B. & Sames, D. “Oxidative C-arylation of free (NH)—heterocycles via direct (sp³) C-H bond functionalization.” J. Am. Chem. Soc. 126:13244-13246, 2004. Retracted in J. Am. Chem. Soc. 128:3102, 2006.

Sezen, B. & Sames, D. “Selective and catalytic arylation of N-phenylpryrrolidine: sp³ C-H bond functionalization in the absence of a directing group.” J. Am. Chem. Soc. 127:5284-5285, 2005. Retracted in J. Am. Chem Soc. 128:3102, 2006.

The following administrative actions have been implemented for a period of five (5) years, beginning on November 4, 2010:

(1) Dr. Sezen is debarred from eligibility for any contracting or subcontracting with any agency of the United States Government and from eligibility or involvement in nonprocurement programs of the United States Government, referred to as “covered transactions,” pursuant to HHS' Implementation of OMB Guidelines to Agencies on Governmentwide Debarment and Suspension (2 CFR 376 et seq.); and

(2) Dr. Sezen is prohibited from serving in any advisory capacity to the U.S. Public Health Service (PHS), including but not limited to service on any PHS advisory committee, board, and/or peer review committee, or as a consultant.

FOR FURTHER INFORMATION CONTACT: Director, Division of Investigative Oversight, Office of Research Integrity, 1101 Wootton Parkway, Suite 750, Rockville, MD 20852, (240) 453-8800.

John Dahlberg,
Director, Division of Investigative Oversight, Office of Research Integrity.

[FR Doc. 2010-29867 Filed 11-26-10; 8:45 am]

BILLING CODE 4150-31-P